DEPARTMENT OF STATE

[Public Notice 10377]

Notifications of Proposed Export Licenses to the Congress

AGENCY: Department of State.

ACTION: Notice.

SUMMARY: Notice is hereby given that the Department of State has forwarded the attached Notifications of Proposed Export Licenses to the Congress on the dates indicated on the attachments.

Applicable Date: As shown on each of the 39 letters.

FOR FURTHER INFORMATION CONTACT: Mr. Anthony M. Dearth Directorate of Defense Trade Controls, Department of State, telephone (202) 663-2836; e-mail DDTCResponseTeam@state.gov. ATTN: Congressional Notification of Licenses.

SUPPLEMENTARY INFORMATION: Pursuant to sections 36(c) and 36(d), and in compliance with section 36(f), of the Arms Export Control Act. Section 36(f) of the Arms Export Control Act (22 U.S.C. 2776) mandates that notifications to the Congress pursuant to sections 36(c) and 36(d) must be published in a timely manner in the Federal Register, upon transmittal to Congress.

Following are such notifications to the Congress:

July 03, 2017

Honorable Paul D. Ryan, Speaker of the House of Representatives.

Dear Mr. Speaker:

Pursuant to Section 36(c) of the Arms Export Control Act, I am transmitting certification of a proposed license for the export of defense articles, including technical data, and defense services in the amount of $50,000,000 or more.

The transaction contained in the attached certification involves the continued export of defense articles, including technical data, and defense services for the operational support, maintenance, and overhaul of F110-GE-100/100B/129/129B/129C/129D/129E/132/132A aircraft engines, used in F-15 and F-16 aircraft to the Republic of Turkey.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 16-091.

Sep 12 2017

Honorable Paul D. Ryan, Speaker of the House of Representatives.

Dear Mr. Speaker:

Pursuant to Section 36(c) of the Arms Export Control Act, I am transmitting certification of a proposed license for the export of firearms, parts, and components abroad controlled under Category I of the United States Munitions List in the amount of $1,000,000 or more.

The transaction contained in the attached certification involves the export of various machine guns and spare barrels to the United Arab Emirates.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 16-117.

Jul 10, 2017

Honorable Paul D. Ryan, Speaker of the House of Representatives.

Dear Mr. Speaker:

Pursuant to Section 36(c) of the Arms Export Control Act, I am transmitting certification of a proposed license for the export of firearms, parts, and accessories abroad controlled under Category I of the United States Munitions List in the amount of $1,000,000 or more.

The transaction contained in the attached certification involves the export of M16A4 rifles, spare parts, accessories, and training to the United Arab Emirates.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 16-123.

Sep 07, 2017

Honorable Paul D. Ryan, Speaker of the House of Representatives.

Dear Mr. Speaker:

Pursuant to Section 36(d) of the Arms Export Control Act, I am transmitting certification of a proposed license for the export of defense articles, including technical data, and defense services for the manufacture of significant military equipment abroad.

The transaction contained in the attached certification involves the export of technical data, defense services, and manufacturing know-how to the Republic of Korea to support the design and manufacture of Controllable Pitch Propellers and Shafting Systems for the Korean KDX-III Batch II Destroyer program.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 16-124.

Jul 10, 2017

Honorable Paul D. Ryan, Speaker of the House of Representatives.

Dear Mr. Speaker:

Pursuant to Section 36(c) of the Arms Export Control Act, I am transmitting certification of a proposed license for the export of firearms, parts, and components abroad controlled under Category I of the United States Munitions List in the amount of $1,000,000 or more.

The transaction contained in the attached certification involves the export of M4A1 carbines with flash and sound suppressors, associated components and equipment to the Republic of Tunisia.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 16-129.

Jul 5, 2017

Honorable Paul D. Ryan, Speaker of the House of Representatives.

Dear Mr. Speaker:

Pursuant to Section 36(c) of the Arms Export Control Act, I am transmitting certification of a proposed license for the export of defense articles, including technical data, and defense services in the amount of 50,000,000 or more.

The transaction contained in the attached certification involves the export of defense articles, including technical data, and defense services to United Arab Emirates to establish a Patriot Weapon System Additional Equipment and Spares Program.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 16-130.

Jul 19, 2017

Honorable Paul D. Ryan, Speaker of the House of Representatives.

Dear Mr. Speaker:

Pursuant to Section 36(c) of the Arms Export Control Act, I am transmitting certification of a proposed license for the export of firearms and accessories controlled under Category I of the United States Munitions List in the amount of $1,000,000 or more.

The transaction contained in the attached certification involves the export of pistols to El Salvador.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 16-134.

Jul 03, 2017

Honorable Paul D. Ryan, Speaker of the House of Representatives.

Dear Mr. Speaker:

Pursuant to Section 36(c) and 36(d) of the Arms Export Control Act, I am transmitting certification of a proposed license for the manufacture of significant military equipment abroad and the export of defense articles, including technical data, and defense services in the amount of $50,000,000 or more.

The transaction contained in the attached certification involves the export of defense articles, including technical data, and defense services to support the manufacture and maintenance of South Korea's T-50 aircraft program for ultimate end-use by the Kingdom of Thailand, Royal Air Force.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs,

Enclosure: Transmittal No. DDTC 17-002.

Jul 21, 2017

Honorable Paul D. Ryan, Speaker of the House of Representatives.

Dear Mr. Speaker:

Pursuant to Section 36(c) and (d) of the Arms Export Control Act, I am transmitting certification of proposed license amendment for export for the manufacture of significant military equipment abroad and the export of defense articles, including technical data, and defense services in the amount of $100,000,000 or more.

The transaction contained in the attached certification involves the export of defense articles, including technical data and defense services to support the establishment of an F-35 aircraft Final Assembly and Checkout (FACO) facility in Nagoya, Japan for end-use by the Japan Air Self Defense Force.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-016.

Jul 21, 2017

Honorable Paul D. Ryan, Speaker of the House of Representatives.

Dear Mr. Speaker:

Pursuant to Section 36(c) of the Arms Export Control Act, I am transmitting certification of a proposed license for the export of firearms, parts, and accessories abroad controlled under Category I of the United States Munitions List in the amount of $1,000,000 or more.

The transaction contained in the attached certification involves the export of M1500 bolt action rifles in various calibers and accessories to Argentina for commercial resale.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-020.

Jul 03, 2017

Honorable Paul D. Ryan, Speaker of the House of Representatives.

Dear Mr. Speaker:

Pursuant to Section 36(c) of the Arms Export Control Act, I am transmitting certification of a proposed license for the export of firearms, parts, and accessories abroad controlled under Category I of the United States Munitions List in the amount of $1,000,000 or more.

The transaction contained in the attached certification involves the export of 5.56mm carbines with extra magazines and parts to Malaysia.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-027.

Sep 13, 2017

Honorable Paul D. Ryan, Speaker of the House of Representatives.

Dear Mr. Speaker:

Pursuant to Section 36(c) of the Arms Export Control Act, I am transmitting certification of a proposed license for the export of firearms and accessories abroad controlled under Category I of the United States Munitions List in the amount of $1,000,000 or more.

The transaction contained in the attached certification involves the export of semi-automatic rifles, semi-automatic pistols, and magazines to Peru.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-031

Sep 07, 2017

Honorable Paul D. Ryan, Speaker of the House of Representatives.

Dear Mr. Speaker:

Pursuant to Section 36(c) of the Arms Export Control Act, I am transmitting, certification of a proposed license for the export of defense articles, including technical data, and defense services in the amount of $100,000,000 or more.

The transaction contained in the attached certification involves the export of defense articles, including technical data, and defense services to the United Kingdom for the manufacture and assembly of F135 engine parts and components.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-035.

Sep 11, 2017

Honorable Paul D. Ryan, Speaker of the House of Representatives.

Dear Mr. Speaker:

Pursuant to Sections 36(c) of the Arms Export Control Act, I am transmitting certification of a proposed license for the export of defense articles, including technical data, and defense services in the amount of $14,000,000 or more.

The transaction contained in the attached certification involves the export of defense articles, including technical data, and defense services for the procurement of CH-47F (SG) Chinook helicopters and associated spare parts, support equipment, defense articles, and services for end-use by the Ministry of Defence, Republic of Singapore.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-039.

Jul 19, 2017

Honorable Paul D. Ryan, Speaker of the House of Representatives.

Dear Mr. Speaker:

Pursuant to Section 36(c) of the Arms Export Control Act, I am transmitting certification of a proposed license amendment for the export of defense articles, including technical data, and defense services in the amount of $100,000,000 or more.

The transaction contained in the attached certification involves the export of defense articles to Australia to support the P-8 Production, Sustainment, and Follow-on Development Memorandum of Understanding.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-042.

Sep 11, 2017

Honorable Paul D. Ryan, Speaker of the House of Representatives.

Dear Mr. Speaker:

Pursuant to Section 36(c) of the Arms Export Control Act, I am transmitting certification of a proposed license for the export of firearms and accessories abroad controlled under Category I of the United States Munitions List in the amount of $1,000,000 or more.

The transaction contained in the attached certification involves the export of light machine guns with spare barrels, ammunition, and accessories to Indonesia.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-049.

Sep 07, 2017

Honorable Paul D. Ryan, Speaker of the House of Representatives.

Dear Mr. Speaker:

Pursuant to Section 36(c) of the Arms Export Control Act, I am transmitting certification of a proposed license for the export of defense articles, including technical data, and defense services in the amount of $25,000,000 or more.

The transaction contained in the attached certification involves the export of 2000 lb. Tritonal filled MK84 bombs to the Government of Israel.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-052.

Aug 30, 2017

Honorable Paul D. Ryan, Speaker of the House of Representatives.

Dear Mr. Speaker:

Pursuant to Section 36(c) of the Arms Export Control Act, I am transmitting certification of a proposed license for the export of firearms, parts, and accessories abroad controlled under Category I of the United States Munitions List in the amount of $1,000,000 or more.

The transaction contained in the attached certification involves the export of fully automatic rifles, semi-automatic pistols, and silencers with extra magazines and accessories to Indonesia.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-053.

Sep 07, 2017

Honorable Paul D. Ryan, Speaker of the House of Representatives.

Dear Mr. Speaker:

Pursuant to Section 36(c) of the Arms Export Control Act, I am transmitting certification of a proposed license for the export of firearms abroad controlled under Category I of the United States Munitions List in the amount of $1,000,000 or more.

The transaction contained in the attached certification involves the export of 9mm semi-automatic pistols to Canada.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-062.

Aug 18, 2017

Honorable Paul D. Ryan, Speaker of the House of Representatives.

Dear Mr. Speaker:

Pursuant to Section 36(c) of the Arms Export Control Act, I am transmitting certification of a proposed license for the export of defense articles, including technical data, and defense services in the amount of $100,000,000 or more.

The transaction contained in the attached certification involves the export of defense articles, including technical data, and defense services to the United Kingdom and Germany to support the integration, installation, operation, testing, and use of Inertial Measurement Units in the Paveway Program.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-064.

Dec 18, 2017

Honorable Paul D. Ryan, Speaker of the House of Representatives.

Dear Mr. Speaker:

Pursuant to Section 36(c) of the Arms Export Control Act, I am transmitting certification of a proposed license for the export of firearms, parts and components abroad controlled under Category I of the United States Munitions List in the amount of $1,000,000 or more.

The transaction contained in the attached certification involves the export of rifles and accessories to Bahrain.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 16-072.

Dec 27, 2017

Honorable Paul D. Ryan, Speaker of the House of Representatives.

Dear Mr. Speaker:

Pursuant to Section 36(c) of the Arms Export Control Act, I am transmitting certification of a proposed license amendment for the export of defense articles, including technical data, and defense services in the amount of $50,000,000 or more.

The transaction contained in the attached certification involves the export of Inertial Measurement Units to be Republic of Korea for integration into 2.75 inch guided rockets for end-use by the United Arab Emirates Armed Forces.

The United States government is prepared to license the export of these items having taken into account political, military, economic, human rights, and arms control considerations.

More detailed information is contained in the formal certification which, though unclassified, contains business information submitted to the Department of State by the applicant, publication of which could cause competitive harm to the United States firm concerned.

Sincerely,

Mary K. Waters,

Assistant Secretary Legislative Affairs.

Enclosure: Transmittal No. DDTC 16-088.

Dec 26, 2017

Honorable Paul D. Ryan, Speaker of the House of Representatives.

Dear Mr. Speaker:

Pursuant to Section 36(c) of the Arms Export Control Act, I am transmitting certification of a proposed license for the export of defense articles, including technical data, and defense services, in the amount of $50,000,000 or more.

The transaction contained in the attached certification involves the export of Intelligence and Surveillance Aircraft and associated Ground Stations to the Republic of Algeria.

The United States government is prepared to license the export of these items having taken into account political, military, economic, human rights, and arms control considerations.

More detailed information is contained in the formal certification which, though unclassified, contains business information submitted to the Department of State by the applicant, publication of which could cause competitive harm to the United States firm concerned.

Sincerely,

Mary K. Waters,

Assistant Secretary Legislative Affairs.

Enclosure: Transmittal No. DDTC 16-140.

Dec 27, 2017

Honorable Paul D. Ryan, Speaker of the House of Representatives.

Dear Mr. Speaker:

Pursuant to Section 36(c) of the Arms Export Control Act, I am transmitting certification of a proposed license for the export of firearms, parts, and accessories abroad controlled under Category I of the United States Munitions List in the amount of $1,000,000 or more.

The transaction contained in the attached certification involves the export of Model 249, 5.56 caliber machine guns, Model M2 HB QCB, .50 caliber machine guns, and accessories to the United Arab Emirates.

The United States government is prepared to license the export of these items having taken into account political, military, economic, human rights, and arms control considerations.

More detailed information is contained in the formal certification which, though unclassified, contains business information submitted to the Department of State by the applicant, publication of which could cause competitive harm to the United States firm concerned.

Sincerely,

Mary K. Waters,

Assistant Secretary Legislative Affairs.

Enclosure: Transmittal No. DDTC 17-012

Nov 01, 2017

Honorable Paul D. Ryan, Speaker of the House of Representatives.

Dear Mr. Speaker:

Pursuant to Section 36(d) of the Arms Export Control Act, I am transmitting certification of a proposed license for the export of defense articles, including technical data, and defense services for the manufacture of significant military equipment abroad.

The transaction contained in the attached certification involves the export of technical data, defense services, and manufacturing know-how to the Republic of Korea to support the design and manufacture of Programmers and Digital Cockpit Display Units for ALE-47(V) Threat Adaptive Countermeasures Dispenser System (TACDS) to be used in Korean Utility Helicopters of the South Korean Army.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-022.

Nov 01, 2017

Honorable Paul D. Ryan, Speaker of the House of Representatives.

Dear Mr. Speaker:

Pursuant to Section 36(d) of the Arms Export Control Act, I am transmitting certification of a proposed license for the export of defense articles, including technical data, and defense services for the manufacture of significant military equipment abroad.

The transaction contained in the attached certification involves the export of technical data, defense services, and manufacturing know-how to Canada to support the manufacture and delivery of constituent material of plasma spray powder for use in certain U.S. military ceramic coatings.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-026.

Dec 18, 2017

Honorable Paul D. Ryan, Speaker of the House of Representatives.

Dear Mr. Speaker:

Pursuant to Section 36(c) of the Arms Export Control Act, I am transmitting certification of a proposed license for the export of firearm parts and accessories abroad controlled under Category I of the United States Munitions List in the amount of $1,000,000 or more.

The transaction contained in the attached certification involves the export of 5.56mm upper receiver assemblies, barrel assemblies, and accessories to the United Arab Emirates.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-028.

Oct 30, 2017

Honorable Paul D. Ryan, Speaker of the House of Representatives.

Dear Mr. Speaker:

Pursuant to Section 36(c) of the Arms Export Control Act, I am transmitting certification of a proposed license for the export of firearms parts and accessories abroad controlled under Category I of the United States Munitions List in amount of $1,000,000 or more.

The transaction contained in the attached certification involves the export of M60 and M2HB machine guns, MK19 grenade machine guns, and associated components for the Tunisian Ministry of Defense.

The United States government is prepared to license the export of these items having taken into account political, military, economic, human rights, and arms control considerations,

More detailed information is contained in the formal certification which, though unclassified, contains business information submitted to the Department of State by the applicant, publication of which could cause competitive harm to the United States firm concerned.

Sincerely,

Charles S. Faulkner,

Bureau of Legislative Affairs.

Enclosure: Transmittal No. DDTC 17-038

Oct 30, 2017

Honorable Michael Pence, President of the Senate.

Dear Mr. President:

Pursuant to Section 36(c) of the Arms Export Control Act, I am transmitting certification of a proposed license for the export of defense articles, including technical data, defense services in the amount of $100,000,000 or more.

The transaction contained in the attached certification involves the export of defense articles, including technical data and defense services to Australia to support the depot level maintenance of F404-GE-400 engines installed on F-18 aircraft.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-040

Dec 27, 2017

Honorable Paul D. Ryan, Speaker of the House of Representatives.

Dear Mr. Speaker:

Pursuant to Section 36(c) of the Arms Export Control Act, I am transmitting certification of a proposed license for the export of firearms, parts, and accessories abroad controlled under Category I of the United States Munitions List in amount of $1,000,000 or more.

The transaction contained in the attached certification involves the export of automatic carbines, M16A1 rifles, grenade launcher, sound and flash suppressors, scopes, maintenance training, and parts and accessories for Bahrain.

The United States government is prepared to license the export of these items having taken into account political, military, economic, human rights, and arms control considerations.

More detailed information is contained in the formal certification which, though unclassified, contains business information submitted to the Department of State by the applicant, publication of which could cause competitive harm to the United States firm concerned.

Sincerely,

Mary K. Waters,

Assistant Secretary Legislative Affairs.

Enclosure: Transmittal No. DDTC 17-043.

Dec 31, 2017

Honorable Edward Royce, Chairman of the Committee on Foreign Affairs.

Dear Mr. Chairman:

Pursuant to Section 36(c) of the Arms Export Control Act, I am transmitting certification of a proposed license for the export of defense articles, including technical data, defense services in the amount of $50,000,000 or more.

The transaction contained in the attached certification involves the export of defense articles, including technical data and defense services to Saudi Arabia in support of the assembly and integration of cannons onto weapons stations for further integration onto pickup trucks and patrol boats for end-use by the Ministry of Interior, Kingdom of Saudi Arabia.

The United States government is prepared to license the export of these items having taken into account political, military, economic, human rights, and arms control considerations.

More detailed information is contained in the formal certification which, though unclassified, contains business information submitted to the Department of State by the applicant, publication of which could cause competitive harm to the United States firm concerned.

Sincerely,

Mary K. Waters,

Assistant Secretary Legislative Affairs.

Enclosure: Transmittal No. DDTC 17-044.

Dec 27, 2017

Honorable Michael R. Pence, President of the Senate

Dear Mr. President:

Pursuant to Section 36(c) of the Arms Export Control Act, I am transmitting certification of a proposed license for the export of firearm parts and accessories abroad controlled under Category I of the United States Munitions List in amount of $1,000,000 or more.

The transaction contained in the attached certification involves the export of Machine Gun Reflex Sights to Jordan.

The United States government is prepared to license the export of these items having taken into account political, military, economic, human rights, and arms control considerations.

More detailed information is contained in the formal certification which, though unclassified, contains business information submitted to the Department of State by the applicant, publication of which could cause competitive harm to the United States firm concerned.

Sincerely,

Mary K. Waters,

Assistant Secretary Legislative Affairs,

Enclosure: Transmittal No. DDTC 17-046.

Oct 30, 2017

Honorable Paul D. Ryan, Speaker of the House of Representatives.

Dear Mr. Speaker:

Pursuant to Section 36(c) and (d) of the Arms Export Control Act, I am transmitting certification of a proposed license for the export for the manufacture of significant military equipment abroad and the export of defense articles, including technical data, and defense services in the amount of $100,000,000 or more.

The transaction contained in the attached certification involves the export of defense articles, including technical data, and defense services to Japan to support the manufacture, integration, installation and assembly of the Japanese Patriot PAC-3 missile program.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-048.

Oct 24, 2017

Honorable Paul D. Ryan, Speaker of the House of Representatives.

Dear Mr. Speaker:

Pursuant to Section 36(d) of the Arms Export Control Act, I am transmitting certification of a proposed license for the export of defense articles, including technical data, and defense services for the manufacture of significant military equipment abroad.

The transaction contained in the attached certification involves the export of defense articles, including technical data, and defense services to Canada to support the design, development, demonstration, qualification, assembly, manufacture, processing, analysis, test, and modification of Tube-launched, Optically-tracked, Wirelessly-guided (TOW) Launch Motor propellant for the TOW Weapon System.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-051.

Oct 30, 2017

Honorable Paul Ryan, Speaker of the House of Representatives.

Dear Mr. Speaker:

Pursuant to Sections 36 (c) and 36(d) of the Arms Export Control Act, we are transmitting certification of a proposed license for the export of the manufacture of significant military equipment abroad and the export of defense articles, including technical data, and defense services in the amount of $100,000 or more.

The transaction contained in the attached certification involves the export of defense articles, including technical data, and defense services for the manufacture of F404 and F414 aircraft engine components in Canada to supply General Electric Aviation's production lines in the United States.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-061.

Oct 30, 2017

Honorable Paul Ryan, Speaker of the House of Representatives.

Dear Mr. Speaker:

Pursuant to Section 36(c) and 36(d) of the Arms Export Control Act, we are transmitting certification of proposed license amendment for the export of defense articles, including technical data, and defense services in the amount of $100,000,000 or more.

The transaction contained in the attached certification involves the export of defense articles, including technical data, and defense services for the manufacture of PAC-3 Missile Segment Command and Launch System for the Japanese PATRIOT Growth Program.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-059.

Oct 30, 2017

Honorable Paul D. Ryan, Speaker of the House of Representatives.

Dear Mr. Speaker:

Pursuant to Section 36(c) of the Arms Export Control Act, I am transmitting certification of a proposed license for the export of defense articles, including technical data, and defense services in the amount of $100,000,000 or more.

The transaction contained in the attached certification involves the export of defense articles, including technical data, and defense services to Japan to support the integration, installation, operation, training, testing, maintenance, and repair of KC-767 tanker.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-069.

Oct 30, 2017

Honorable Paul D. Ryan, Speaker of the House of Representatives.

Dear Mr. Speaker:

Pursuant to Section 36(d) of the Arms Export Control Act, I am transmitting certification of a proposed license for the export of defense articles, including technical data, and defense services for the manufacture of significant military equipment abroad.

The transaction contained in the attached certification involves the export of defense articles, including technical data, and defense services to the Republic of Korea to support the manufacture, integration, installation, and testing of the Electro-Optical Tracking System II.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-072.

Nov 01, 2017

Honorable Paul D. Ryan, Speaker of the House of Representatives.

Dear Mr. Speaker:

Pursuant to Section 36(c) of the Arms Export Control Act, I am transmitting certification of a proposed license for the export of firearms parts, and accessories abroad controlled under Category I of the United States Munitions List in the amount of $1,000,000 or more.

The transaction contained in the attached certification involves the export of various caliber finished replacement barrels and various caliber rifle barrel blanks for commercial resale to Canada.

The United States government is prepared to license the export of these items having taken into account political, military, economic, human rights, and arms control considerations.

More detailed information is contained in the formal certification which, though unclassified, contains business information submitted to the Department of State by the applicant, publication of which could cause competitive harm to the United States firm concerned.

Sincerely,

Charles S. Faulkner,

Bureau of Legislative Affairs.

Enclosure: Transmittal No. DDTC 17-081.

Anthony M. Dearth,
(Acting) Managing Director, Directorate of Defense Trade Controls, Department of State.

[FR Doc. 2018-06952 Filed 4-4-18; 8:45 am]

BILLING CODE 4710-25-P